ENVIRONMENTAL PROTECTION AGENCY

40 CFR Part 70

[FRL-6925-2]

Clean Air Act Operating Permit Program; Petition for Objection to State Operating Permits for PacifiCorp's Jim Bridger and Naughton Coal-Fired Power Plants, Wyoming

AGENCY: Environmental Protection Agency (EPA).

ACTION: Notice of final order on petition to object to state operating permit.

SUMMARY: This document announces that the EPA Administrator has partially granted and partially denied a petition to object to two state operating permits issued by the Wyoming Department of Environmental Quality, Air Quality Division, to PacifiCorp for its Jim Bridger plant and its Naughton plant in Wyoming. This order constitutes final action on the petition submitted by the Wyoming Outdoor Council. Pursuant to section 505(b)(2) of the Clean Air Act (Act) and 40 CFR 70.8(d), interested parties may seek judicial review of those portions of the petition which EPA denied in the United States Court of Appeals for the appropriate circuit within 60 days of this decision under section 307 of the Act.

ADDRESSES: Copies of the final order, the petition and all other supporting information are on file at the: U.S. Environmental Protection Agency, Region VIII, Air and Radiation Program, 999 18th Street—Suite 300, Denver, Colorado, 80202. All documents will be available for review at the U.S. EPA Region VIII office Monday through Friday from 8:00 a.m. to 5:00 p.m. (excluding federal holidays). The final order is also available electronically at http://www.epa.gov/region07/programs/artd/air/title5/t5memos/woc020.pdf.

FOR FURTHER INFORMATION CONTACT: Monica Morales, Air Technical Assistance Unit, EPA Region VIII, telephone (303) 312-6936, e-mail morales.monica@epa.gov. Interested parties may also contact the Wyoming Department of Environmental Quality, Air Quality Division, 122 West 25th Street, Cheyenne, Wyoming 82002.

SUPPLEMENTARY INFORMATION: The Clean Air Act affords EPA the opportunity for a 45-day period to review, and object to as appropriate, operating permits proposed by state permitting authorities. Section 505(b)(2) of the Act authorizes any person to petition the EPA Administrator within 60 days after the expiration of this review period to object to state operating permits if EPA has not done so. Petitions must be based only on objections to the permit that were raised with reasonable specificity during the public comment period provided by the state, unless the petitioner demonstrates that it was impracticable to raise these issues during the comment period or the grounds for the issues arose after this period.

The Wyoming Outdoor Council submitted a petition to the Administrator on June 30, 1998, seeking EPA's objection to the operating permits issued to PacifiCorp for its Jim Bridger and Naughton coal-fired power plants. The petitioner maintains that the PacifiCorp operating permits are inconsistent with the Act because the permits: (1) fail to require continuous opacity monitoring for Naughton unit 3 and Jim Bridger units 1, 2, and 3 as required by the federal acid rain regulations, 40 CFR 75.14(b); and (2) provide improper exemptions to State Implementation Plan (“SIP”) emission limits by allowing excess emissions due to malfunctions, abnormal conditions, or breakdowns that are beyond the control of the operator.

The order partially granting and partially denying this petition explains the reasons behind EPA's conclusions that (1) the permits fail to meet the continuous opacity monitoring requirement for the four coal-fired units and otherwise lack monitoring sufficient to assure compliance with the permit's terms and conditions, and (2) the petitioner failed to demonstrate that EPA has a basis for objecting to the exemption from SIP emission limits due to malfunctions, abnormal conditions or breakdowns.

Because the Order is a locally or regionally applicable action of the Administrator, judicial review of this decision under section 307(b)(1) of the Clean Air Act (the Act) may be sought only by the filing of a petition for review in the United States Court of Appeals for the appropriate regional circuit within 60 days from the date on which this notice is published in the Federal Register. Under section 307(b)(2) of the Act, this decision shall not be subject to later judicial review in civil or criminal proceedings for enforcement.

Dated: December 20, 2000.
Jack W. McGraw,
Acting Regional Administrator, Region VIII.

[FR Doc. 00-33424 Filed 12-29-00; 8:45 am]

BILLING CODE 6560-50-P